DEPARTMENT OF ENERGY

Federal Energy Regulatory Commission

Combined Notice of Filings

Take notice that the Commission has received the following Natural Gas Pipeline Rate and Refund Report filings:

Filings Instituting Proceedings

Docket Numbers: CP16-22-002.

Applicants: NEXUS Gas Transmission, LLC.

Description: Abbreviated Application for an Amendment to the Certificate of Public Convenience and Necessity issued to NEXUS Gas Transmission, LLC.

Filed Date: 12/4/17.

Accession Number: 20171204-5151.

Comments Due: 5 p.m. ET 12/26/17.

Docket Numbers: RP17-972-001.

Applicants: Wyoming Interstate Company, L.L.C.

Description: Compliance filing Settlement Compliance Filing in Docket No. RP17-972 to be effective 11/1/2017.

Filed Date: 12/1/17.

Accession Number: 20171201-5312.

Comments Due: 5 p.m. ET 12/13/17.

Docket Numbers: RP18-235-000.

Applicants: Wyoming Interstate Company, L.L.C.

Description: § 4(d) Rate Filing: Non-Conforming Agreement Filing (CLFP) to be effective 1/4/2018.

Filed Date: 12/5/17.

Accession Number: 20171205-5001.

Comments Due: 5 p.m. ET 12/18/17.

Docket Numbers: RP18-236-000.

Applicants: Guardian Pipeline, L.L.C.

Description: § 4(d) Rate Filing: Update Contact Information on Title Sheet to be effective 1/5/2018.

Filed Date: 12/5/17.

Accession Number: 20171205-5022.

Comments Due: 5 p.m. ET 12/18/17.

Docket Numbers: RP18-237-000.

Applicants: Guardian Pipeline, L.L.C.

Description: § 4(d) Rate Filing: Update Contact Information on Tariff's Title sheet to be effective 1/5/2018.

Filed Date: 12/5/17.

Accession Number: 20171205-5025.

Comments Due: 5 p.m. ET 12/18/17.

Docket Numbers: RP18-238-000.

Applicants: Midwestern Gas Transmission Company.

Description: § 4(d) Rate Filing: Update contact information on Title Page to be effective 1/5/2018.

Filed Date: 12/5/17.

Accession Number: 20171205-5026.

Comments Due: 5 p.m. ET 12/18/17.

Docket Numbers: RP18-239-000.

Applicants: OkTex Pipeline Company, L.L.C.

Description: § 4(d) Rate Filing: Update Josh Franks Information on Title Page to be effective 1/5/2018.

Filed Date: 12/5/17.

Accession Number: 20171205-5027.

Comments Due: 5 p.m. ET 12/18/17.

Docket Numbers: RP18-240-000.

Applicants: Viking Gas Transmission Company.

Description: § 4(d) Rate Filing: Update Contact Information on Tariff's Title Sheet to be effective 1/5/2018.

Filed Date: 12/5/17.

Accession Number: 20171205-5046.

Comments Due: 5 p.m. ET 12/18/17.

Docket Numbers: RP18-241-000.

Applicants: Northwest Pipeline LLC.

Description: § 4(d) Rate Filing: Acquiring Available Capacity Revisions Filing to be effective 2/1/2018.

Filed Date: 12/5/17.

Accession Number: 20171205-5129.

Comments Due: 5 p.m. ET 12/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2017.
Nathaniel J. Davis, Sr.,
Deputy Secretary.

[FR Doc. 2017-26743 Filed 12-11-17; 8:45 am]

BILLING CODE 6717-01-P